NATIONAL SCIENCE FOUNDATION

Agency Information Collection Activities: Comment Request

AGENCY: National Science Foundation.

ACTION: Submission for Office of Management and Budget Review; comment request.

SUMMARY: The National Science Foundation (NSF) has submitted the following information collection requirement to Office of Management and Budget (OMB) for review and clearance under the Paperwork Reduction Act of 1995. This is the third notice for public comment; two 60-day notices were published in the Federal Register and ninety-five (95) comments from fourteen (14) individual sources were received. NSF is forwarding the proposed renewal submission to the OMB for clearance simultaneously with the publication of this notice.

DATES: Written comments and recommendations for the proposed information collection should be sent within 30 days of publication of this notice to www.reginfo.gov/public/do/PRAmain. This information collection can be found by selecting “Currently under 30-day Review—Open for Public Comments” or by using the search function.

FOR FURTHER INFORMATION CONTACT: Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays). Comments regarding this information collection are best assured of having their full effect if received within 30 days of this notification. Copies of the submission(s) may be obtained by calling 703-292-7556.

NSF may not conduct or sponsor a collection of information unless the collection of information displays a currently valid OMB control number, and the agency informs potential persons who are to respond to the collection of information that such persons are not required to respond to the collection of information unless it displays a currently valid OMB control number.

SUPPLEMENTARY INFORMATION:

Summary of Comments on the National Science Foundation's Research Infrastructure Guide

The draft Research Infrastructure Guide (RIG) was made available for review by the public on the NSF website at https://www.nsf.gov/bfa/lfo/lfo_documents.jsp. The notices for public comment for the draft 2025 RIG were published in the Federal Register on October 3, 2024 (89 FR 84634), and January 8, 2025 (90 FR 1550). All told, NSF received ninety-five (95) comments from fourteen (14) individual sources. Fifty-three (53) comments sought clarification on oversight processes across the facility life cycle while eight (8) focused on new guidance related to information assurance (cybersecurity and cyberinfrastructure). Thirty-three (33) offered positive feedback on updates from the 2021 RIG. In addition, minor edits were made by NSF to remove DEIA language in alignment with Executive Order 14173.

The full comments and NSF's response may be found via: http://www.reginfo.gov/public/do/PRAMain and https://www.nsf.gov/bfa/lfo/lfo_documents.jsp.

Title of Collection: Research Infrastructure Guide.

OMB Approval Number: 3145-0239.

Type of Request: Intent to seek approval to renew with revisions an information collection for three years.

Proposed Project: The National Science Foundation Act of 1950 (Pub. L. 81-507) set forth NSF's mission and purpose:

“To promote the progress of science; to advance the national health, prosperity, and welfare; to secure the national defense.”

The Act authorized and directed NSF to initiate and support:

• Basic scientific research and research fundamental to the engineering process.

• Programs to strengthen scientific and engineering research potential.

• Science and engineering education programs at all levels and in all the various fields of science and engineering.

• Programs that provide a source of information for policy formulation.

• Other activities to promote these ends.

Among Federal agencies, NSF is a leader in providing the academic community with advanced instrumentation needed to conduct state-of-the-art research and to educate the next generation of scientists, engineers and technical workers. The knowledge generated by these tools sustains U.S. leadership in science and engineering to drive the U.S. economy and secure the future. NSF's responsibility is to ensure that the research and education communities have access to these resources, and to provide the support needed to utilize them optimally and implement timely upgrades.

The scale of advanced instrumentation ranges from small research instruments to shared facilities that can be used by entire communities. The demand for such instrumentation and facilities remains high to support the expanding pace of discovery.

NSF currently provides support for research infrastructure (RI) construction from two accounts: the Major Research Equipment and Facility Construction (MREFC) account, and the Research and Related Activities (R&RA) account. The MREFC account, established in FY 1995, is a separate budget line item that provides an agency-wide mechanism, permitting directorates to undertake Major Facility projects greater than $100M and Mid-scale Research Infrastructure projects between $20M and $100M. Smaller Mid-scale RI and research instrumentation projects continue to be supported from the R&RA account.

Facilities are defined as shared-use infrastructure, instrumentation and equipment that are accessible to a broad community of researchers and educators. Facilities may be centralized or may consist of distributed installations. They may incorporate large-scale networking or computational infrastructure, multi-user instruments or networks of such instruments, or other infrastructure, instrumentation and equipment having a significant impact on a broad segment of a scientific or engineering discipline. Historically, awards have been made for such diverse projects as accelerators, telescopes, research vessels and aircraft, and geographically distributed observatories with networked sensors and instrumentation.

The cost and diversification of Major Facility projects require that NSF remain attentive to the ever-changing issues and challenges inherent in their planning, construction, operation, management and oversight. Most importantly, dedicated, competent NSF and Awardee staff are needed to manage and oversee these projects and science support programs; giving the attention and oversight that good practice dictates and that proper accountability to taxpayers and Congress demands. To this end, there is also a need for consistent, documented requirements and procedures to be understood and used by NSF program managers and Awardees for all such projects and programs.

Use of the Information: Facilities are an essential part of the science and engineering enterprise and supporting them is a significant responsibility of the NSF. The NSF makes awards to external entities—primarily universities, consortia of universities or non-profit organizations—to undertake construction, management and operation of facilities. Such awards frequently take the form of cooperative agreements, but contracts may also be used depending on the primary purpose of the award and who benefits. Regardless of award instrument, NSF retains responsibility for overseeing their development, management and successful performance. The RIG is intended to:

• Provide step-by-step guidance for NSF staff and Awardees to carry out effective project planning, management and oversight of Major Facilities and Mid-scale RI while considering the varying requirements of a diverse portfolio.

• Clearly state the policies, processes and procedures pertinent at each stage of a facility's life cycle from development through construction, operations, and disposition.

• Document and disseminate “good practices” identified over time so that NSF and Awardees can carry out their responsibilities more effectively.

This version of the RIG enhances guidance for planning across all life cycle stages, and provides detailed instructions on tailoring, scaling, and progressively elaborating related plans to align with the scope and complexity of the RI. Additionally, it also expands key project and program management elements to improve the quality of proposal submission. The RIG does not replace existing requirements that are based on the award instrument; either the Uniform Guidance (2 CFR 200) or the Federal Acquisition Regulation (FAR). Instead, it draws upon and supplements these documents, as well as industry good practice, for the purpose of providing detailed guidance on NSF policy and procedures related to the planning and oversight of Major Facilities and Mid-scale RI projects. All facilities awards require merit and technical review, as well as agency approval of certain deliverables. The level of review and approval varies substantially from standard grants, as does the level of oversight needed to ensure appropriate and proper accountability for federal funds. The requirements, recommended procedures and best practices presented in the RIG apply to any facility significant enough to require enhanced oversight by the Foundation.

The RIG will be updated periodically to reflect changes in requirements, policies and/or procedures. Awardees are expected to monitor and adopt the requirements and best practices included in the RIG which are aimed at improving proposal submission and illustrating management expectations, as well as articulating NSF oversight requirements for Major Facilities and Mid-scale awards to enable the most efficient and cost-effective delivery of tools to the research communities.

The submission of proposals and subsequent project documentation to the Foundation related to the development, construction and operations of Major Facilities and Mid-scale RI is part of the collection of information. This information is used to help NSF fulfill this responsibility in supporting merit-based research projects in all the scientific and engineering disciplines. The Foundation also has a continuing commitment to provide oversight on facilities development and construction which must be balanced against monitoring its information collection to identify and address any excessive reporting burdens.

NSF has approximately twenty-five (25) Major Facilities in various stages of development, construction, operations and disposition, as well as approximately thirty (30) Mid-scale RI implementation projects actively underway at any given time. Facilities undergoing a major upgrade may have awards associated with design, construction and operations at the same time. Two to four (2 to 4) new Major Facility awards are made approximately every five (5) years based on science community infrastructure needs and availability of funding. Among the twenty-two Major Facilities, there are approximately seven (7) facilities annually that are either in development or construction. These stages require the highest level of reporting and management documentation per the RIG.

Burden to the Public: The Foundation estimates that approximately five (5) Full Time Equivalents (FTEs) are necessary for each Major Facility project in design or construction to respond to NSF performance and financial reporting and project management documentation requirements on an annual basis; or 10,400 hours per year. The Foundation estimates approximately one and half (1.5) FTE for a Major Facility in operations to respond to NSF performance and financial reporting on an annual basis; or 3,120 hours per year. For Mid-scale implementation projects, the Foundation estimates approximately one (1) Full Time Equivalent (FTE's) is necessary for each mid-scale project to respond to NSF project management documentation requirements on an annual basis; or 2,080 hours per year. With seven (7) Major Facilities in design or construction and eighteen (18) in operations and twelve (30) Mid-scale projects, this equates to roughly 191,360 public burden hours annually.

Dated: June 10, 2025.
Suzanne H. Plimpton,
Reports Clearance Officer, National Science Foundation.

[FR Doc. 2025-10889 Filed 6-13-25; 8:45 am]

BILLING CODE 7555-01-P